DEPARTMENT OF ENERGY

Federal Energy Regulatory Commission

Notice of Application Accepted for Filing and Soliciting Motions to Intervene, Protests, and Comments

February 21, 2002.

Take notice that the following hydroelectric application has been filed with the Commission and is available for public inspection:

a. Type of Application: Preliminary Permit.

b. Project No.: 12141-000.

c. Date filed: January 2, 2002.

d. Applicant: Energy Recycling Company.

e. Name of Project: Klamath County Water Power Project.

f. Location: In Klamath County, Oregon, partially in Bureau of Land Management lands. T39S, R11E (sections 35 and 36), T39S, R12E (sections 19, 20, 30, and 31), T40S, R12E (sections 1, 2, 11, 12, 13, 14, 24, 25, and 26), T40S, R13E (section 6).

g. Filed Pursuant to: Federal Power Act, 16 USC 791(a)—825(r).

h. Applicant Contact: Mr. Douglas Spaulding, Energy Recycling Company, 1433 Utica Ave. South, Suite 162, Minneapolis, MN 55416, phone (952) 544-8133.

i. FERC Contact: Robert Bell, (202) 219-2806.

j. Deadline for filing motions to intervene, protests and comments: 60 days from the issuance date of this notice.

All documents (original and eight copies) should be filed with: Magalie R. Salas, Secretary, Federal Energy Regulatory Commission, 888 First Street, NE, Washington, DC 20426. Comments, protests and interventions may be filed electronically via the Internet in lieu of paper. See, 18 CFR 385.2001(a)(1)(iii) and the instructions on the Commission's web site under the “e-Filing” link. Please include the project number (P-12141-000) on any comments or motions filed.

The Commission's Rules of Practice and Procedure require all interveners filing documents with the Commission to serve a copy of that document on each person in the official service list for the project. Further, if an intervener files comments or documents with the Commission relating to the merits of an issue that may affect the responsibilities of a particular resource agency, they must also serve a copy of the document on that resource agency.

k. Description of Project: The proposed pumped storage project would consist of the following new facilities: (1) An upper reservoir with a maximum storage capacity of 14,300 acre-feet and an area of 199 acres at maximum normal water surface elevation of 5,523 feet above mean sea level (msl), impounded by two earth and rock fill embankments, 178 and 50-foot-high, respectively, with a crest elevation of 5,533 feet msl; (2) a 24-foot-diameter, 1,326-foot-long vertical shaft; (3) a 24-foot-diameter, 3,200-foot-long concrete-lined tunnel; (4) four 12-foot-diameter, 355-foot-long, steel-lined penstocks; (5) a powerhouse with four 250-megawatt pump/turbines; (6) a 1,500-foot-long by 38-foot-wide D-shaped tailrace tunnel; (7) a lower reservoir with a maximum storage capacity of 16,900 acre-feet and an area of 405 acres at maximum water surface elevation of 4,191 feet msl, impounded by a 49-foot-high earth and rockfill embankment, with a crest elevation of 4,200 feet msl; (8) a 4-mile-long, 500-kilovolt transmission line connecting the project to Captain Jack substation; and (9) other appurtenances. The project would operate as a closed system using water obtained from groundwater sources.

The project would have an annual generation of 1,576.8 GWh that would be sold to a local utility.

l. Copies of this filing are on file with the Commission and are available for public inspection. This filing may also be viewed on the web at http://www.ferc.gov using the “RIMS” link, select “Docket#” and follow the instructions (call 202-208-2222 for assistance).

m. Preliminary Permit—Anyone desiring to file a competing application for preliminary permit for a proposed project must submit the competing application itself, or a notice of intent to file such an application, to the Commission on or before the specified comment date for the particular application (see 18 CFR 4.36). Submission of a timely notice of intent allows an interested person to file the competing preliminary permit application no later than 30 days after the specified comment date for the particular application. A competing preliminary permit application must conform with 18 CFR 4.30(b) and 4.36.

n. Preliminary Permit—Any qualified development applicant desiring to file a competing development application must submit to the Commission, on or before a specified comment date for the particular application, either a competing development application or a notice of intent to file such an application. Submission of a timely notice of intent to file a development application allows an interested person to file the competing application no later than 120 days after the specified comment date for the particular application. A competing license application must conform with 18 CFR 4.30(b) and 4.36.

o. Notice of Intent—A notice of intent must specify the exact name, business address, and telephone number of the prospective applicant, and must include an unequivocal statement of intent to submit, if such an application may be filed, either a preliminary permit application or a development application (specify which type of application). A notice of intent must be served on the applicant(s) named in this public notice.

p. Proposed Scope of Studies under Permit—A preliminary permit, if issued, does not authorize construction. The term of the proposed preliminary permit would be 36 months. The work proposed under the preliminary permit would include economic analysis, preparation of preliminary engineering plans, and a study of environmental impacts. Based on the results of these studies, the Applicant would decide whether to proceed with the preparation of a development application to construct and operate the project.

q. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

r. Filing and Service of Responsive Documents—Any filings must bear in all capital letters the title “COMMENTS”, “NOTICE OF INTENT TO FILE COMPETING APPLICATION”, “COMPETING APPLICATION”, “PROTEST”, “MOTION TO INTERVENE”, as applicable, and the Project Number of the particular application to which the filing refers. Any of the above-named documents must be filed by providing the original and the number of copies provided by the Commission's regulations to: The Secretary, Federal Energy Regulatory Commission, 888 First Street, NE, Washington, DC 20426. An additional copy must be sent to Director, Division of Hydropower Administration and Compliance, Federal Energy Regulatory Commission, at the above-mentioned address. A copy of any notice of intent, competing application or motion to intervene must also be served upon each representative of the Applicant specified in the particular application.

s. Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 02-4605 Filed 2-26-02; 8:45 am]

BILLING CODE 6717-01-P